DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Electronic Monitoring Systems for Atlantic Highly Migratory Species (HMS).

OMB Control Number: 0648-0372.

Form Number(s): None.

Type of Request: Regular (extension of a currently approved collection).

Number of Respondents: 157.

Average Hours per Response: 4 hours for initial VMS installation; 5 minutes per VMS initial activation checklist; 2 minutes per hail-out/hail-in declaration; 6 hours for initial electronic monitoring installation; 5 minutes for pelagic longline bluefin tuna catch records; 15 minutes for purse seine bluefin tuna catch records; 1 minute for dockside review of bluefin tuna catch 5 records; 2 hours for electronic monitoring data retrieval.

Burden Hours: 5,278.

Needs and Uses: Vessel monitoring systems (VMS) and other electronic monitoring systems collect important information on fishing effort, catch, and the geographic location of fishing effort and catch for certain sectors of the Atlantic HMS fleet. Data collected through these systems are used in both domestic and international fisheries management, law enforcement, stock assessments, and quota management purposes. Atlantic HMS vessels required to use VMS are pelagic longline, purse seine, bottom longline (directed shark permit holders in North Carolina, South Carolina, and Virginia), and gillnet (directed shark permit holders consistent with the requirements of the Atlantic large whale take reduction plan requirements at 50 CFR 229.39(h)) vessels. In addition to VMS, pelagic longline vessels are also required to have electronic monitoring systems to monitor catch and account for bluefin tuna interactions.

The National Marine Fisheries Service (NMFS) Office of Law Enforcement monitors fleet adherence to gear- and time-area restrictions with VMS position location data. Gear restricted areas and time-area closures are important tools for Atlantic HMS management that have been implemented to reduce bycatch of juvenile swordfish, sea turtles, and bluefin tuna, among other species. Electronic monitoring data from the pelagic longline fleet are used by NMFS to accurately monitor bluefin tuna catch by the pelagic longline fleet, to ensure compliance with Individual Bluefin Quota (IBQ) limits and requirements, and to ensure that the Longline category bluefin tuna quota is not over-harvested. Additionally, electronic monitoring is used to verify disposition of retained shortfin mako sharks, consistent with binding international agreements. VMS reporting of bluefin tuna catch is used to monitor IBQ allocations in real-time. Atlantic HMS fisheries are managed under the dual authority of the Magnuson-Stevens Fishery Conservation and Management Act (MSA) and the Atlantic Tunas Conservation Act (ATCA). Under the MSA, management measures must be consistent with ten National Standards, and fisheries must be managed to maintain optimum yield, rebuild overfished fisheries, and prevent overfishing. Under ATCA, the Secretary of Commerce shall promulgate regulations, as necessary and appropriate, to implement measures adopted by the International Commission for the Conservation of Atlantic Tunas (ICCAT).

Affected Public: Businesses or other for-profit organizations; individuals or households; and State, Local, or Tribal government.

Frequency: VMS reports at the start and end of each trip, VMS set reports at the end of each day of fishing, EM data retrieval after each trip.

Respondent's Obligation: Required to submit reports through VMS at the start of end of each fishing trip, after each set and data retrieval after each trip.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2020-00831 Filed 1-17-20; 8:45 am]

BILLING CODE 3510-22-P